DEPARTMENT OF AGRICULTURE

Food and Nutrition Service

Agency Information Collection Activities: Proposed Collection; Comment Request—Form FNS-143, Claim for Reimbursement (Summer Food Service Program); Correction

AGENCY: Food and Nutrition Service, USDA.

ACTION: Notice; correction.

SUMMARY: The Department of Agriculture's Food and Nutrition Service published a document in the Federal Register on August 7, 2009, concerning requests for comments on the Summer Food Service Program Claim for Reimbursement, Form FNS-143. The document contained an incorrect date.

FOR FURTHER INFORMATION CONTACT: Mrs. Lynn Rodgers-Kuperman at (703) 305-2590.

Correction

In the Federal Register of August 7, 2009, in FR/Vol. 74, No. 151 on page 39609, the second column, correct the “Expiration Date” caption to read: Expiration Date: January 31, 2010.

Dated: August 11, 2009.
Julia Paradis,
Administrator, Food and Nutrition Service.

[FR Doc. E9-19766 Filed 8-17-09; 8:45 am]

BILLING CODE 3410-30-P